DEPARTMENT OF JUSTICE

[OMB Number 1140-0100]

Agency Information Collection Activities; Proposed eCollection eComments Requested; Report of Multiple Sale or Other Disposition of Certain Rifles

AGENCY: Bureau of Alcohol, Tobacco, Firearms and Explosives, Department of Justice.

ACTION: 30-Day notice.

SUMMARY: The Bureau of Alcohol, Tobacco, Firearms and Explosives (ATF), Department of Justice (DOJ), will be submitting the following information collection request to the Office of Management and Budget (OMB) for review and approval in accordance with the Paperwork Reduction Act of 1995. The proposed information collection was previously published in the Federal Register, on December 26th, 2023, allowing a 60-day comment period.

DATES: Comments are encouraged and will be accepted for 30 days until April 3, 2024.

FOR FURTHER INFORMATION CONTACT: If you have comments especially on the estimated public burden or associated response time, suggestions, or need a copy of the proposed information collection instrument with instructions or additional information, please contact: Matthew Grim, EPS/NTCD/TORM, by email at matthew.grim@atf.gov, or telephone at 304-260-3683.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0100. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Report of Multiple Sale or Other Disposition of Certain Rifles.

3. Agency form number, if any, and the applicable component of the Department of Justice sponsoring the collection: ATF Form 3310.12.

Component: Bureau of Alcohol, Tobacco, Firearms and Explosives, U.S. Department of Justice.

4. Affected public who will be asked or required to respond, as well as a brief abstract: Affected Public: Private Sector-for or not for profit institutions.

Abstract: Licensed dealers and pawnbrokers in Arizona, California, New Mexico and Texas must submit to ATF reports of multiple sales or other dispositions of certain rifles whenever, at one time or during any five consecutive business days, you sell to an unlicensed person or otherwise dispose of two or more semi-automatic rifles capable of accepting a detachable magazine and with a caliber greater than .22 (including .223/5.56 caliber). The required information must be submitted on ATF F3310.12. The information collection (IC) OMB #1140-0100 is being revised to expand the FFL population required to complete the form. ATF is now requiring Type 07 FFLs and Type 08 FFLs in these States to also report multiple sales of certain rifles on ATF Form 3310.12.

5. Obligation to Respond: The obligation to respond is mandatory. The statutory requirements are implemented in title 18 U.S.C. 923(g)(5)(A).

6. Total Estimated Number of Respondents: The estimated number of eligible respondents is 15,000 but the estimated number of responses is approximately 12,000.

7. Estimated Time per Respondent: 12 minutes.

8. Frequency: As needed.

9. Total Estimated Annual Time Burden: 2,400 hours.

10. Total Estimated Annual Other Costs Burden: The average wage for a firearms sales clerk is $16.70 per hour and postage at $0.51. Accordingly, the total burden on respondents is $46,200.00 annually (2,400 total hourly burden × $16.70 hourly wage rate for a sales clerk) + (postage: $0.51 × 12,000 responses).

If additional information is required, contact: Darwin Arceo, Department Clearance Officer, Policy and Planning Staff, Justice Management Division, United States Department of Justice, Two Constitution Square, 145 N Street NE, 4W-218, Washington, DC 20530.

Dated: February 28, 2024.
Darwin Arceo,
Department Clearance Officer for PRA, U.S. Department of Justice.

[FR Doc. 2024-04461 Filed 3-1-24; 8:45 am]

BILLING CODE 4410-FY-P